DEPARTMENT OF TRANSPORTATION

Coast Guard

33 CFR Part 66

[USCG 2000-7466]

RIN 2115-AF98

Allowing Alternatives to Incandescent Light in Private Aids to Navigation

AGENCY: Coast Guard, DOT.

ACTION: Direct final rule; withdrawal.

SUMMARY: On October 4, 2000, the Coast Guard published a direct final rule that notified the public of the Coast Guard's intent to remove the requirement to use only tungsten-incandescent lighting for private aids to navigation. This would have enabled private industry and owners of private aids to navigation to take advantage of recent changes in lighting technology-specifically, to use lanterns based on light-emitting diodes (LEDs). Because we received an adverse comment objecting to this rule, we withdraw the rule.

DATES: The direct final rule published at 65 FR 59124 on October 4, 2000, is withdrawn; the withdrawal is made as of January 3, 2001.

ADDRESSES: Comments and material received from the public, as well as documents mentioned in this preamble as being available in the docket, are part of docket USCG-2000-7466 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: For questions on this direct final fule, call Dan Andrusiak, G-OPN-2, U.S. Coast Guard, telephone 202-267-0327. For questions on viewing material in the docket, call Dorothy Beard, Chief of Dockets, Department of Transportation, telephone 202-366-9329.

SUPPLEMENTARY INFORMATION:

Discussion of Comment

On October 4, 2000, the Coast Guard published [65 FR 59124] a direct final rule. We received one comment, which expressed the following issues of concern: Absent standards for the performance of LEDs, the reliability of private aids to navigation might decrease; absent such standards, the color of many “white” LEDs might not conform to current standards; the rule does not provide for a backup source, such as a lampchanger; and the rule does not address the degradation of output over time. The comment indicated that, unless the rule resolves these issues, the performance and reliability of private aids to navigation might suffer.

A comment counts as adverse if it challenges a rule's underlying premise or approach, or explains why the rule would be ineffective or unacceptable, or otherwise inappropriate, without a change. This comment counts as adverse.

The Coast Guard has decided to withdraw the rule at this time so it can consider the issues raised by the adverse comment and can consider ways to resolve these issues.

Dated: December 26, 2000.
Terry M. Cross,
U.S. Coast Guard, Assistant Commandant for Operations.

[FR Doc. 00-33456 Filed 12-28-00; 10:26 am]

BILLING CODE 4910-15-M